DEPARTMENT OF TRANSPORTATION

Federal Aviation Administration

Notice of Intent To Request Revision From the Office of Management and Budget of a Currently Approved Information Collection Activity, Request for Comments; Pilot Records Improvement Act of 1996

AGENCY: Federal Aviation Administration (FAA), DOT.

ACTION: Notice and request for comments.

SUMMARY: The FAA invites public comments about our intention to request the Office of Management and Budget (OMB) to approve a current information collection. Title 49 U.S.C. 44703(h) mandates that all U.S. air carriers operating under 14 CFR parts 121 or 135, and all U.S. air operators under 14 CFR part 125, and certain others, request and receive certain training, safety, and testing records before extending a firm offer of employment to an individual who is applying to their company as a pilot.

DATES: Please submit comments by May 7, 2010.

FOR FURTHER INFORMATION CONTACT: Carla Mauney on (202) 267-9895, or by e-mail at: Carla.Mauney@faa.gov.

SUPPLEMENTARY INFORMATION:

Federal Aviation Administration (FAA)

Title: Pilot Records Improvement Act of 1996.

Type of Request: Extension without change of an approved collection.

OMB Control Number: 2120-0607.

Forms(s): 8060-10, 8060-10A, 8060-11, 8060-11A, 8060-12, 8060-13.

Affected Public: A total of 18,263 Respondents.

Frequency: The information is collected on occasion.

Estimated Average Burden per Response: Approximately 2.5 hours per response.

Estimated Annual Burden Hours: An estimated 45,655 hours annually.

Abstract: Title 49 U.S.C. 44703(h) mandates that all U.S. air carriers operating under 14 CFR parts 121 or 135, and all U.S. air operators under 14 CFR part 125, and certain others, request and receive certain training, safety, and testing records before extending a firm offer of employment to an individual who is applying to their company as a pilot. These records are to be requested from the FAA, from any employer(s) from the previous 5-year period that used the applicant as a pilot, and from the National Driver Registry.

ADDRESSES: Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on February 25, 2010.
Carla Mauney,
FAA Information Collection Clearance Officer, IT Enterprises Business Services Division, AES-200.

[FR Doc. 2010-4875 Filed 3-5-10; 8:45 am]

BILLING CODE 4910-13-P